DEPARTMENT OF DEFENSE

Office of the Secretary

Notice of Availability of Draft Environmental Impact Statement for the Enhanced Integrated Air and Missile Defense System on Guam

AGENCY: Missile Defense Agency (MDA), Department of Defense (DoD).

ACTION: Notice of availability.

SUMMARY: The MDA, as the lead agency, announces the availability of the Draft Environmental Impact Statement (EIS) (EISX-007-20-MDA-1725955966) for the proposed construction, deployment, and operation and maintenance of an Enhanced Integrated Air and Missile Defense (EIAMD) System on Guam (Proposed Action). The United States Army (USA), the United States Navy (USNAV), the United States Air Force (USAF), and the Federal Aviation Administration (FAA) are cooperating agencies on this Draft EIS. The Draft EIS was prepared in accordance with the National Environmental Policy Act of 1969 (NEPA); the Council on Environmental Quality Regulations for Implementing the Procedural Provisions of NEPA; and the agency implementing procedures of MDA, USA, USNAV, USAF, and FAA. The Draft EIS also supports compliance with the National Historic Preservation Act of 1966 (NHPA) and its implementing regulations.

DATES: The 75-day public comment period will be from October 25, 2024, to January 8, 2025. Comments must be postmarked or received on or before January 8, 2025 to ensure consideration in the Final EIS.

ADDRESSES: Written comments may be submitted by: Email: info@EIAMD-EIS.com, Online form: www.EIAMD-EIS.com, Mail: ManTech International Corporation, Attention: EIAMD EIS Project Support, PMB 403, 1270 N. Marine Corps Drive, Suite 101, Tamuning, Guam 96913-4331. Comments will also be accepted at the open house public meetings. The public meetings will be held at the following locations: (1) November 13, 2024, Hågat Mayor's Office Community Center Building 393, Route 2, Hågat, Guam; (2) November 14, 2024, Hilton Guam Resort Micronesian Room, 202 Hilton Road, Tumon Bay, Guam; (3) November 15, 2024, Dededo Senior Center, 319 Iglesia Circle, Dededo, Guam. Mr. Mark Wright, MDA Public Affairs, at 571-231-8212 or by email to mda.info@mda.mil, may be contacted regarding the public meetings. All comments, including names and addresses, will be included in the administrative record, but to protect your personal information, addresses and phone numbers will be kept confidential unless release is otherwise required by law.

FOR FURTHER INFORMATION CONTACT: Mr. Mark Wright, MDA Public Affairs, at 571-231-8212, or by email: mda.info@mda.mil. For more information, including a downloadable copy of the Draft EIS, visit the MDA website: https://www.mda.mil/system/eiamd.

SUPPLEMENTARY INFORMATION: Proposed Action and Alternative within the context of homeland defense, Guam is a key strategic location for sustaining and maintaining United States (U.S.) capabilities, deterring adversaries, responding to crises, and maintaining a free and open Indo-Pacific. An attack on Guam would be considered a direct attack on the U.S. and would be met with an appropriate response. Current U.S. forces are capable of defending Guam against regional ballistic missile threats. However, regional missile threats continue to increase and advance technologically. The U.S. Indo-Pacific Command identified a requirement for a 360-degree EIAMD capability on Guam as soon as possible to address the rapid evolution of adversary missile threats.

In the Draft EIS, MDA, in coordination with cooperating agencies, evaluated the potential environmental impacts associated with the Proposed Action as well as a No Action Alternative. The Proposed Action includes the construction, deployment, and operations and maintenance of a comprehensive, persistent, 360-degree EIAMD system to defend the people, infrastructure, and territory of Guam against the rapidly evolving threats of advanced cruise, ballistic, and hypersonic missile attacks from regional adversaries. The proposed system includes a combination of components from the MDA, USA, and USNAV, including missile defense radars, sensors, missile launchers and missile interceptors, and command and control systems. The MDA and USA need to strategically locate and integrate the various system components at multiple sites around Guam. To meet the purpose and need of the Proposed Action, MDA and USA have identified 16 proposed sites on Guam—eight are on Naval Base Guam (NBG), including the NBG Munitions Site, six are on Andersen Air Force Base, and two are on Marine Corps Base Camp Blaz. The proposed EIAMD system components, associated support facilities (e.g., maintenance buildings, entry control, administrative buildings), and infrastructure (e.g., utility infrastructure, fuel storage facilities, water storage facilities) would be distributed across the proposed sites. Additionally, airspace restrictions would be necessary at sites where radars would be located to ensure that aircraft would not encounter high-intensity radiation fields (HIRF) resulting from the radar operations that exceed FAA's HIRF certification standards for aircraft electrical and electronic systems.

The environmental analysis in the Draft EIS addresses the following environmental resource areas: airspace management, health and safety, cultural, terrestrial biological, socioeconomics, environmental justice and protection of children, land use and recreation, transportation, visual quality, utilities, air quality, climate change, noise, water, and geology and soils. Mitigation measures that, if employed, could avoid, minimize, or mitigate potential environmental impacts resulting from the Proposed Action are also analyzed in the Draft EIS. The Draft EIS only analyzes peacetime operations.

The MDA and the USA, as the action proponents, are coordinating and consulting with appropriate Federal agencies as required by the Endangered Species Act, Coastal Zone Management Act, Clean Water Act, Clean Air Act, and other laws and regulations determined to be applicable to the project. This public comment period also supports compliance with Section 106 of the NHPA and its implementing regulations. The USNAV has determined that the proposed undertaking shall follow The Programmatic Agreement Among the Commander, Navy Region Marianas, the Advisory Council on Historic Preservation, and the Guam Historic Preservation Officer, Regarding Navy Undertakings on the Island of Guam (2008) to fulfill Section 106 responsibilities and to avoid, minimize, and/or mitigate effects on historic properties. Members of the public are welcome to provide input.

The MDA intends to publish the Final EIS in summer 2025 and sign a Record of Decision following the 30-day Final EIS waiting period.

Public Participation Invited: The MDA invites all interested members of the public, as well as Federal and territorial agencies, to comment on the Draft EIS and the project's potential to affect historic properties pursuant to Section 106 of the NHPA. The Draft EIS is available for public review on the MDA website at www.mda.mil/system/eiamd and at the following public libraries: (1) University of Guam Robert F. Kennedy Memorial Library, UOG Station, Mangilao, Guam 96913; (2) Nieves M. Flores Memorial Library, 254 Martyr St., Agana, Guam 96910.

In support of NEPA and NHPA Section 106 requirements, the MDA and cooperating agencies will host three in-person open house public meetings in Guam. Similar to the scoping meetings held in August 2023, the open-house format will include poster stations staffed by MDA and representatives of the cooperating agencies who can provide information and answer questions about the Proposed Action and the findings in the Draft EIS.

The public meetings will be held as follows: (1) November 13, 2024, from 4:00 to 7:00 p.m. Chamorro Standard Time (ChST) at Hågat Mayor's Office Community Center Building 393, Route 2, Hågat, Guam; (2) November 14, 2024, from 4:00 to 7:00 p.m. ChST at Hilton Guam Resort Micronesian Room, 202 Hilton Road, Tumon Bay, Guam; (3) November 15, 2024, from 5:00 to 8:00 p.m. ChST at Dededo Senior Center, 319 Iglesia Circle, Dededo, Guam. Attendees will be able to submit oral and written comments during the public meetings. Official oral comments will be recorded by a court reporter in a one-on-one setting.

Dated: October 23, 2024.
Aaron T. Siegel,
Alternate OSD Federal Register Liaison Officer, Department of Defense.

[FR Doc. 2024-25027 Filed 10-24-24; 8:45 am]

BILLING CODE 6001-FR-P